DEPARTMENT OF THE INTERIOR

National Park Service

[NPS-WASO-NRNHL-22371; PPWOCRADI0, PCU00RP14.R50000]

National Register of Historic Places; Notification of Pending Nominations and Related Actions

AGENCY: National Park Service, Interior.

ACTION: Notice.

SUMMARY: The National Park Service is soliciting comments on the significance of properties nominated before November 5, 2016, for listing or related actions in the National Register of Historic Places.

DATES: Comments should be submitted by December 27, 2016.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before November 5, 2016. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

ALABAMA

Baldwin County

Jenkins Farm and House, 29040 Jenkins Farm Rd., Loxley, 16000862

Mobile County

Oakleigh Garden Historic District (Boundary Decrease), Government, Broad, Texas & S. Ann Sts., Mobile, 16000863

CALIFORNIA

Alameda County

St. Joseph's Home for the Aged, 2647 International Blvd., Oakland, 16000864

Marin County

Marinship Machine Shop, 25 Liberty Ship Way, Sausalito, 16000865

COLORADO

El Paso County

Glen Eyrie (Boundary Increase), 3820 N. 30th St., Colorado Springs, 16000866

CONNECTICUT

Hartford County

Mansuy and Smith Automobile Showroom Building, 38-42 Elm St., Hartford, 16000867

IOWA

Montgomery County

Red Oak Downtown Historic District, (Iowa's Main Street Commercial Architecture MPS) Roughly bound by E. Hammond, N. 5th, N. 1 Sts., E. Washington Ave., Red Oak, 16000868

MARYLAND

Montgomery County

New Mark Commons, (Subdivisions by Edmund Bennett and Keyes, Lethbridge and Condon in Montgomery County, MD, 1956-1973, MPS) Bounded by Maryland Ave., Argyle & Monroe Sts., Tower Oaks, I 270, Rockville, 16000869

MASSACHUSETTS

Essex County

Sargent—Robinson House, 972 & 974 Washington St., Gloucester, 16000870

Plymouth County

Howard Home for Aged Men, 940 Belmont St., Brockton, 16000871

MINNESOTA

St. Louis County

Bridge No. L6113, (Reinforced-Concrete Highway Bridges in Minnesota MPS) E. 4th St. over Tischer Cr., Duluth, 16000872

Bridge No. L8515, (Reinforced-Concrete Highway Bridges in Minnesota MPS) Lewis St. over Tischer Cr., Duluth, 16000873

MONTANA

Lewis and Clark County

Fort Harrison Veterans' Hospital Historic District, 2 mi. NW. of Helena, Helena, 16000874

Missoula County

Maclay Bridge, Milepost. 1 on North Ave., Missoula, 16000875

NORTH CAROLINA

Buncombe County

Vance, Kate and Charles Noel, House, 178 Sunset Dr., Black Mountain, 16000876

Forsyth County

Oak Creek Historic District, 1141-1537 Polo & Fred's Rds., Friendship, Cape Myrtle & Rosedale Circles, Idlewilde Dr., Harmon Ave., Hobart St, Winston-Salem, 16000877

Gaston County

Seaboard Air Line Railway Depot, 105 N. Depot St., Cherryville, 16000878

Mecklenburg County

Charlotte Fire Station No. 4, 420 W. 5th St., Charlotte, 16000879

Wake County

Jones, Dr. Calvin, House, (Wake County MPS) 414 N. Main St., Wake Forest, 16000880

OREGON

Jackson County

Camp White Station Hospital Administration Building, 8495 Crater Lake Hwy., White City, 16000881

WASHINGTON

Lewis County

Jackson, John R. and Matilda, House (Additional Data) On Jackson Hwy, 500 ft. S. of jct. with US 12, Chehalis, 74001968

Authority: 60.13 of 36 CFR part 60.

Dated: November 7, 2016.
Julie H. Ernstein,
Acting Chief, National Register of Historic Places/National Historic Landmarks Program.

[FR Doc. 2016-29628 Filed 12-9-16; 8:45 am]

BILLING CODE 4312-52-P